DEPARTMENT OF THE INTERIOR

Bureau of Reclamation

Contra Loma Reservoir and Recreation Area, Resource Management Plan/Environmental Impact Statement, Antioch, CA—Central Valley Project

AGENCY: Bureau of Reclamation, Interior.

ACTION: Notice of intent to prepare a Resource Management Plan/Environmental Impact Statement (RMP/EIS) and notice of a Stakeholders Workshop.

SUMMARY: The Bureau of Reclamation (Reclamation) is preparing a RMP/EIS for Contra Loma Reservoir and Recreation Area to establish uniform policy and land management guidelines that promote an organized use, development, and management of the Contra Loma Reservoir and the surrounding recreational area lands. The RMP/EIS shall be prepared to meet all Federal and Reclamation standards. These standards include consideration of appropriate Federal, state, and local laws and ordinances including the National Environmental Policy Act, the Endangered Species Act, the Clean Water Act, the Clean Air Act, the National Historic Preservation Act, the Federal Water Project Recreation Act, and the Reclamation Recreation Management Act, as applicable. Reclamation will conduct a workshop for the benefit of the various Stakeholders. The purpose of the workshop is to provide the Stakeholders information relative to Reclamation uniform policies, including land management guidelines that promote use, management, and development, of the Contra Loma Reservoir and the surrounding recreational area lands. A public scoping meeting will be announced at a later date for the purpose of soliciting input on the alternatives, concerns, and issues to be addressed in the RMP/EIS.

DATES: A workshop will be held on December 9, 2009 from 12:30 p.m. to 2:30 p.m., in Antioch, California.

ADDRESSES: The workshop will be held at the Lone Tree Golf Course and Event Center, 4800 Golf Course Road, Antioch, California.

FOR FURTHER INFORMATION CONTACT: Ms. Sheryl Carter, Land Use & Resource Planning Specialist, South-Central California Area Office, Bureau of Reclamation, 1243 N Street, Fresno, CA 93721; (559) 487-5299.

SUPPLEMENTARY INFORMATION: The RMP/EIS is to guide future land resources management to ensure land and waters of the United States are maintained and protected as provided for under the authorizing purposes over a given period of time. This process is intended to establish uniform policy and land management guidelines that promote an organized use, development, and management of the Contra Loma Reservoir and the surrounding recreational area lands. These areas will be compatible with scenic surroundings and applicable Federal and State laws. An RMP incorporates into one document all the information pertinent to the future guidance of a management area and may serve as the basis for future resource decision making for the management area. The RMP is to chart the biological, physical, and social condition that Reclamation desires to see once all the RMP management actions have been implemented. In addition, the RMP provides sufficient detailed ways to efficiently and equitably provide recreational opportunities to meet public demand within its intended planning lifespan.

This RMP/EIS will be used to develop an integrated document that fulfills the requirements of an RMP and an EIS for the Contra Loma Reservoir and Recreation Area, Resource Management Plan/Environmental Impact Statement.

Before including your name, address, phone number, e-mail address, or other personal identifying information in any correspondence, you should be aware that your entire correspondence—including your personal identifying information—may be made publicly available at any time. While you can ask us in your correspondence to withhold your personal identifying information from public review, we cannot guarantee that we will be able to do so.

Dated: November 5, 2009.
Michael Chotkowski,
Regional Environmental Officer, Mid-Pacific Region.

[FR Doc. E9-27147 Filed 11-10-09; 8:45 am]

BILLING CODE 4310-MN-P